NUCLEAR REGULATORY COMMISSION

Advisory Committee on Reactor Safeguards; Subcommittee Meeting on Thermal-Hydraulic Phenomena: Revised

A meeting of the ACRS Subcommittee on Thermal-Hydraulic Phenomena is scheduled to be held on January 16-17, 2001, 8:30 a.m., Room T-2B1, 11545 Rockville Pike, Rockville, Maryland. The meeting agenda has been revised so that portions of the January 16, 2001 session will be closed to discuss proprietary information per 5 U.S.C. 552b(c)(4) pertinent to the Electric Power Research Institute (EPRI). Notice of this meeting was published in the Federal Register on December 28, 2000 (65 FR 82410). All other items pertaining to this meeting remains the same as previously published.

For further information contact: Mr. Paul A. Boehnert, cognizant ACRS staff engineer, (telephone 301/415-8065) between 7:30 a.m. and 4:15 p.m. (EST).

Dated: Janaury 3, 2001.
James E. Lyons,
Associate Director for Technical Support, ACRS/ACNW.

[FR Doc. 01-597 Filed 1-8-01; 8:45 am]

BILLING CODE 7590-01-P